DEPARTMENT OF THE INTERIOR

National Park Service

[NPS-WASO-NAGPRA-NPS0031515; PPWOCRADN0-PCU00RP14.R50000]

Notice of Intent to Repatriate Cultural Items: Mississippi Department of Archives and History, Jackson, MS

AGENCY: National Park Service, Interior.

ACTION: Notice.

SUMMARY: The Mississippi Department of Archives and History (MDAH), in consultation with the appropriate Indian Tribes or Native Hawaiian organizations, has determined that some of the cultural items listed in this notice meet the definition of sacred objects and some of the other cultural items listed in this notice meet the definition of unassociated funerary objects. Lineal descendants or representatives of any Indian Tribe or Native Hawaiian organization not identified in this notice that wish to claim these cultural items should submit a written request to the MDAH. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the MDAH at the address in this notice by April 5, 2021.

ADDRESSES: Meg Cook, Director of Archaeology Collections, Mississippi Department of Archives and History, Museum Division, 222 North Street, P.O. Box 571, Jackson, MS 39205, telephone (601) 576-6927, email mcook@mdah.ms.gov.

SUPPLEMENTARY INFORMATION: Notice is here given in accordance with the Native American Graves Protection and Repatriation Act (NAGPRA), 25 U.S.C. 3005, of the intent to repatriate cultural items under the control of Mississippi Department of Archives and History, Jackson, MS, that meet the definition of unassociated funerary objects and sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1989 and 1990, 16 sacred objects were removed from the Austin site (22TU549) in Tunica County, MS. These sacred objects include nine canine burials, one lot of ceramic sherds, one lot of charcoal, one lot of fired clay objects, one lot of faunal bone fragments (other than canine), one lot of lithic debitage, one lot of soil matrix, and one lot of water-screened pit fill. Following consultation with The Chickasaw Nation on the role of the white dog Ofi' Tohbi Ishto' in the Chickasaw Migration story and the desire of the Chickasaw Nation to venerate these animals alongside ancestors in current day reburial practices, MDAH has determined that the above listed objects are sacred objects.

In April of 1988, MDAH acquired from an unknown donor a collection containing five objects that had been removed from the burial of an individual at the Tom Harris site (22QU574) in Quitman County, MS. Neither the identity of the individual nor the whereabouts of their human remains is known. The unassociated funerary objects include one lot of ceramic sherds, one lot of daub, one lot of lithic debitage, one lot of faunal bone fragments, and one lot of burial fill matrix.

Determinations Made by the Mississippi Department of Archives and History

Officials at the Mississippi Department of Archives and History have determined that:

• Pursuant to 25 U.S.C. 3001(3)(B), five of the cultural items described above are reasonably believed to have been placed with or near individual human remains at the time of death or later as part of the death rite or ceremony and are believed, by a preponderance of the evidence, to have been removed from a specific burial site of a Native American individual.

• Pursuant to 25 U.S.C. 3001(3)(C), 16 of the cultural items described above are specific ceremonial objects needed by traditional Native American religious leaders for the practice of traditional Native American religions by their present-day adherents.

• Pursuant to 25 U.S.C. 3001(2), there is a relationship of shared group identity that can be reasonably traced between all the cultural items described above and The Chickasaw Nation.

Additional Requestors and Disposition

Lineal descendants or representatives of any Indian Tribe or Native Hawaiian organization not identified in this notice that wish to claim these cultural items should submit a written request with information in support of the claim to Meg Cook, Director of Archaeology Collections, Mississippi Department of Archives and History, Museum Division, 222 North Street, P.O. Box 571, Jackson, MS 39205, telephone (601) 576-6927, email mcook@mdah.ms.gov, by April 5, 2021. After that date, if no additional claimants have come forward, transfer of control of the unassociated funerary objects and sacred objects to The Chickasaw Nation may proceed.

The Mississippi Department of Archives and History is responsible for notifying the Alabama-Coushatta Tribe of Texas [previously listed as Alabama-Coushatta Tribes of Texas]; Alabama-Quassarte Tribal Town; Coushatta Tribe of Louisiana; Eastern Band of Cherokee Indians; Miami Tribe of Oklahoma; Mississippi Band of Choctaw Indians; Quapaw Nation [previously listed as The Quapaw Tribe of Indians]; The Chickasaw Nation; The Choctaw Nation of Oklahoma; The Muscogee (Creek) Nation; The Osage Nation [previously listed as Osage Tribe] that this notice has been published.

Dated: February 12, 2021.
Melanie O'Brien,
Manager, National NAGPRA Program.

[FR Doc. 2021-04568 Filed 3-4-21; 8:45 am]

BILLING CODE 4312-52-P